DEPARTMENT OF COMMERCE

National Oceanic and Atmospheric Administration

50 CFR Part 300

[Docket No. 200427-0121]

RTID 0648-XW034

Pacific Halibut Fisheries; Catch Sharing Plan; Inseason Action

AGENCY: National Marine Fisheries Service (NMFS), National Oceanic and Atmospheric Administration (NOAA), Commerce.

ACTION: Temporary rule; inseason adjustment; request for comments.

SUMMARY: This document announces additional season dates for the Washington and Columbia River Pacific halibut recreational fisheries in the International Pacific Halibut Commission's regulatory Area 2A off Washington, Oregon, and California. This action is intended to conserve Pacific halibut and provide angler opportunity where available.

DATES: This action is effective July 27, 2020, through December 31, 2020. Submit comments on or before August 12, 2020.

ADDRESSES: Submit your comments, identified by NOAA-NMFS-2019-0120, by either of the following methods:

• Federal e-Rulemaking Portal: Go to www.regulations.gov/#!docketDetail;D=NOAA-NMFS-2019-0120, click the “Comment Now!” icon, complete the required fields, and enter or attach your comments.

• Mail: Submit written comments to Barry Thom, c/o Kathryn Blair, West Coast Region, NMFS, 1201 NE Lloyd Blvd., Suite 1100, Portland, OR 97232.

Instructions: NMFS may not consider comments if they are sent by any other method, to any other address or individual, or received after the comment period ends. All comments received are a part of the public record and NMFS will post them for public viewing on www.regulations.gov without change. All personal identifying information (e.g., name, address, etc.), confidential business information, or otherwise sensitive information submitted voluntarily by the sender is publicly accessible. NMFS will accept anonymous comments (enter “N/A” in the required fields if you wish to remain anonymous).

Docket: This rule is accessible via the internet at the Office of the Federal Register website at https://www.federalregister.gov/. Background information and documents are available at the NOAA Fisheries website at https://www.fisheries.noaa.gov/action/2020-pacific-halibut-catch-sharing-plan and at the Council's website at http://www.pcouncil.org. Other comments received may be accessed through www.regulations.gov.

FOR FURTHER INFORMATION CONTACT: Kathryn Blair, phone: 503-231-6858, fax: 503-231-6893, or email: kathryn.blair@noaa.gov.

SUPPLEMENTARY INFORMATION: On May 1, 2020, NMFS published a final rule approving changes to the Pacific halibut Area 2A Catch Sharing Plan and recreational (sport) management measures for 2020 (85 FR 25317), as authorized by the Northern Pacific Halibut Act of 1982 (16 U.S.C. 773-773(k)). The 2020 Catch Sharing Plan provides a recommended framework for NMFS' annual management measures and subarea allocations based on the 2020 Area 2A Pacific halibut catch limit of 1,500,000 pounds (lb) (680.4 metric tons (mt)). These Pacific halibut management measures include recreational fishery season dates and subarea allocations.

Federal regulations at 50 CFR 300.63(c), “Flexible Inseason Management Provisions for Sport Halibut Fisheries in Area 2A,” allow the NMFS' Regional Administrator, after consultation with the Chairman of the Pacific Fishery Management Council (Council), the Executive Director of the International Pacific Halibut Commission (IPHC), and the Fisheries Directors affected states, or their designees, to modify annual regulations during the season. These inseason provisions allow the Regional Administrator to modify sport fishing periods, bag limits, size limits, days per calendar week, and subarea quotas, if it is determined it is necessary to meet the allocation objectives and the action will not result in exceeding the catch limit.

NMFS has determined that inseason action to modify the 2020 annual regulations is warranted at this time to ensure the Area 2A allocations as published in Table 1 of the final rule (85 FR 25317, May 1, 2020) are met. As stated above, inseason modification of the fishing season is authorized by Federal regulations at 50 CFR 300.63(c). After consultation with IPHC, the Council, the Washington Department of Fish and Wildlife (WDFW), and the Oregon Department of Fish and Wildlife (ODFW), NMFS determined the following inseason actions are necessary to meet the management objective of attaining the quota, and fall under inseason management provisions allowing for the modification of sport fishing periods and sport fishing days per calendar week. Notice of these additional dates and closure of the fisheries will also be announced on the NMFS hotline at 206-526-6667 or 800-662-9825.

Inseason Action

Inseason Action #1

Description of the action: Inseason action #1 implements additional season dates for the Puget Sound, North and South Coast subareas in the State of Washington.

Reason for the action: The purpose of this inseason action is to provide additional opportunity for anglers in Washington's Puget Sound, North and South Coast subareas to achieve the catch limit. Since late April, Washington anglers have been unable to access boat ramps and other facilities needed for recreational fishing in many coastal areas, resulting in lower than normal landings. For reference, in 2018 and 2019, 92 percent of the available recreational quota was attained during the fishing season that concluded in June. Through June 2020, anglers in the Washington recreational fisheries have caught 17 percent of the available quota. Without additional season days, the season dates implemented in the May 1, 2020 (85 FR 25317) final rule would likely result in substantial unharvested quota.

Therefore, in order for anglers to have the opportunity to achieve the subarea allocation, and with little risk of the quota being exceeded, through this action NMFS is announcing new season dates in August and September that were not previously announced in the May 1, 2020 final rule (85 FR 25317). Specifically, the additional season dates for the Puget Sound and North Coast subareas are August 6-8, 13-15, 20-22, 27-29, September 3-5, 10-12, 17-19, and 24-26, 2020. For the South Coast, the additional season dates are August 6, 13, 16, 20, 23, 27, 30, September 3, 6, 10, 13, 17, 20, 24, and 27, 2020. If catch and effort are lower than anticipated, NMFS may also announce additional fishing days for the South Coast on the NMFS hotline at 206-526-6667 or 800-662-9825, that may include August 28, September 4, and September 11, 2020.

These dates were determined in consultation with WDFW, the Council, and IPHC. Notice of these and potential additional dates and closure of the fisheries will also be announced on the NMFS hotline at 206-526-6667 or 800-662-9825.

Inseason Action #2

Description of the action: Inseason action #2 implements additional season dates for the Columbia River subarea, an area that includes waters off both the States of Washington and Oregon.

Reason for the action: The purpose of this inseason action is to provide additional opportunity for anglers in the Columbia River subarea to achieve the catch limit. Since late April, Washington and Oregon anglers have been unable to access boat ramps and other facilities needed for recreational fishing in the Columbia River subarea, and have therefore not attained any of the 18,450 lb (8.37 mt) allocation. As a result, NMFS is adding season dates in addition to those implemented in the May 1, 2020 final rule (85 FR 25317). For reference, in 2018 and 2019, anglers harvested all of the available quota during May and June. Without additional days, the fishery would likely result in substantial unharvested quota.

Therefore, in order for anglers to have the opportunity to achieve the subarea allocation, NMFS is adding season dates to August and September. Specifically, the additional season dates for the all-depth fishery in the Columbia River subarea are August 6, 13, 16, 20, 23, 27, 30, September 3, 6, 10, 13, 17, 20, 24, and 27, 2020. If catch and effort are lower than anticipated, NMFS may also announce additional fishing days for the Columbia River on the NMFS hotline at 206-526-6667 or 800-662-9825, that may include August 28, September 4, and September 11, 2020. For the nearshore fishery in the Columbia River subarea, the fishery will be open August 10, 2020, and continue on Monday, Tuesday, and Wednesday each week until the nearshore allocation is taken or September 30, 2020, whichever is earlier.

Weekly quota monitoring reports for the recreational fisheries in Washington, Oregon, and California are available on their respective websites. NMFS and the IPHC will continue to monitor recreational catch obtained via state sampling procedures, and, if necessary, will make inseason adjustments to the Pacific halibut recreational fishery. NMFS will provide notice of inseason changes on the NMFS hotline at 206-526-6667 or 800-662-9825. The IPHC will announce inseason changes via news release on their website at https://iphc.int/.

Classification

NMFS issues this action pursuant to the Northern Pacific Halibut Act of 1982. This action is required by 50 CFR 300.63(c) and authorized by IPHC regulations published March 13, 2020 (85 FR 14586), which is exempt from review under Executive Order 12866.

Pursuant to 5 U.S.C. 553(b)(3)(B), there is good cause to waive prior notice and an opportunity for public comment on this action, as notice and comment would be impracticable and contrary to the public interest. Prior notice and opportunity for public comment was impracticable because NMFS had insufficient time between when adequate landings information became available to determine if additional days would be necessary, and when those dates needed to occur within the season. To ensure the regulated public is fully aware of this action, notice of this regulatory action will also be provided to anglers through a telephone hotline, news release, and by the relevant state fish and wildlife agencies. This notice complies with the requirements of the annual management measures for Pacific halibut recreational fisheries published May 1, 2020 (85 FR 25317) and IPHC regulations published March 13, 2020 (85 FR 14586). While there is not time for prior notice and comment, NMFS will receive public comments for 15 days after publication of this action, in accordance with 50 CFR 300.63(c)(4)(ii). No aspect of this action is controversial, and changes of this nature were anticipated in the final rule for the Pacific halibut Catch Sharing Plan and annual management measures which published May 1, 2020 (85 FR 25317).

There is good cause under 5 U.S.C. 553(d)(3) to waive the 30-day delay in effective date and make this action effective immediately upon publication, as a delay in effectiveness of this action would constrain fishing opportunity and be inconsistent with the goals of the Catch Sharing Plan and current management measures, as well as potentially cause economic harm to the associated fishing communities. Regulations allow the Regional Administrator to modify sport fishing periods, bag limits, size limits, days per calendar week, and subarea quotas, provided that the action allows allocation objectives to be met and will not result in exceeding the catch limit for the area. NMFS recently received information on the progress of landings in the recreational fisheries in Washington and the Columbia River subareas, necessitating new dates be added to the fishery to ensure optimal and sustainable harvest of the quota. A delay in the effectiveness of these new dates would not allow the allocation objectives of this fishery to be met, as the fishery is scheduled to conclude by September 30, according to both the May 1, 2020 final rule (85 FR 25317) and the Council's Catch Sharing Plan.

Dated: July 23, 2020.
Jennifer M. Wallace,
Acting Director, Office of Sustainable Fisheries, National Marine Fisheries Service.

[FR Doc. 2020-16345 Filed 7-27-20; 8:45 am]

BILLING CODE 3510-22-P